OFFICE OF PERSONNEL MANAGEMENT

Notice of Federal Long Term Care Insurance Program Early Enrollment

AGENCY: Office of Personnel Management.

ACTION: Notice of Federal Long Term Care Insurance Early Enrollment.

SUMMARY: The Office of Personnel Management, in conjunction with LTC Partners, is announcing an early enrollment for eligible persons to submit applications for enrollment in the Federal Long Term Care Insurance Program. LTC Partners is an organization formed by the John Hancock and Metropolitan Life Insurance Companies to provide long term care insurance to eligible persons under this Program.

DATES: Early enrollment will run from March 25 through May 15, 2002.

FOR FURTHER INFORMATION CONTACT: You may call 1-800-LTC-FEDS (1-800-582-3337) or visit www.ltcfeds.com for information on applying during early enrollment.

SUPPLEMENTARY INFORMATION: The Federal Long Term Care Insurance Program early enrollment is an opportunity for eligible persons to submit applications for enrollment before the open season begins on July 1, 2002. Early enrollment is designed for persons who are already knowledgeable about long term care insurance and do not need the extensive educational campaign that LTC Partners will undertake before and during the open season.

In our contacts with potential applicants ever since the Program was announced, we realized that there were a significant number of persons who were very familiar with the various aspects of long term care insurance, and wanted to purchase the insurance as soon as possible. We decided to provide an early enrollment opportunity for this group of applicants, so they would not have to wait until the open season to apply for coverage.

The specific provisions of early enrollment are as follows:

Eligible persons: Persons eligible for early enrollment are those specified in the Federal Long Term Care Insurance law (5 U.S.C. 9002) as eligible for coverage. The eligible groups are Federal civilian employees and annuitants; members of the uniformed services; retired members of the uniformed services; their spouses and adult children; and the parents, stepparents, and parents-in-law of employees and members of the uniformed services. There will be no difference in eligibility requirements between the early enrollment period and the open season.

Underwriting requirements: Federal civilian employees, members of the uniformed services, and their spouses will be required to submit applications with short form underwriting. The short form contains several questions regarding health status.

All other eligible persons will be required to submit applications with long form, or full, underwriting. If you are subject to full underwriting, you must answer more questions about your health status. It may also include a review of medical records and/or a personal interview.

Benefits available: Under early enrollment, a limited number of benefit options will be available. Benefit levels will be described in printed material provided by LTC Partners and on their Web site at www.ltcfeds.com. More options will be made available during the open season that begins in July. You will be able to change to a different benefit level during that open season if you wish, and still retain your “billing age” from early enrollment.

Billing age: Premiums are based on your age at the time LTC Partners receives your application for coverage (your “billing age”). Billing age rules will be different for the open season.

Premiums: Premiums vary depending on your age and the level of coverage you choose. Premiums will be provided by LTC Partners in print material and on their Web site at www.ltcfeds.com.

During early enrollment, premiums may be paid in one of two ways. You may request direct billing for premiums, or you may have premiums automatically deducted from a bank account. Payroll deductions will not be available until the open season. You may switch to payroll deductions at any time after they become available.

Effective date: The effective date of an enrollee's coverage under early enrollment is the later of May 1, 2002, or the first day of the month that is on or after the date LTC Partners approves your application for coverage.

Authority: 5 U.S.C. 9008.

Kay Coles James,
Director.

[FR Doc. 02-6198 Filed 3-14-02; 8:45 am]

BILLING CODE 6325-50-P